SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions and one extension of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, Email address: OIRA_Submission@omb.eop.gov.

(SSA)

Social Security Administration, DCRDP, Attn: Reports Clearance Director, 107 Altmeyer Building, 6401 Security Blvd., Baltimore, MD 21235, Fax: 410-966-2830, Email address: OR.Reports.Clearance@ssa.gov.

I. The information collection below is pending at SSA. SSA will submit it to OMB within 60 days from the date of this notice. To be sure we consider your comments, we must receive them no later than October 26, 2012. Individuals can obtain copies of the collection instrument by writing to the above email address.

State Supplementation Provisions: Agreement; Payments—20 CFR 416.2095-416.2098, 416.2099—0960-0240. Section 1618 of the Social Security Act (Act) contains pass-along provisions of the Social Security amendments. These provisions require states that supplement Federal Supplemental Security Income payments to pass along Federal cost-of-living increases to individuals who are eligible for state supplemental payments. If a state fails to keep payments at the required level, it becomes ineligible for Medicaid reimbursement under title XIX of the Act. SSA uses the information to determine a state's eligibility for Medicaid reimbursement. Respondents are state agencies administering supplemental programs.

Type of Request: Extension of an OMB-approved information collection.

Modality of completion | Number of respondents | Frequency of response | Average burden per response (minutes) | Estimated total annual burden (hours)
Total Expenditures | 7 | 4 | 60 | 28
Maintenance of Payment Levels | 24 | 1 | 60 | 24
Total | 31 |  |  | 52

II. SSA submitted the information collections below to OMB for clearance. Your comments regarding the information collections would be most useful if OMB and SSA receive them 30 days from the date of this publication. To be sure we consider your comments, we must receive them no later than September 26, 2012. Individuals can obtain copies of the OMB clearance packages by writing to OPLM.RCO@ssa.gov.

1. Request for Internet Services—Authentication; Automated Telephone Speech Technology—Knowledge-Based Authentication (RISA)—20 CFR 401.45—0960-0596. RISA, one of SSA's authentication methods, allows individuals to access their personal information through our Internet and Automated Telephone Services. SSA asks individuals and third parties who seek personal information from SSA records, or who register to participate in SSA's online business services, to provide certain identifying information. As an extra measure of protection, SSA asks requestors who use the Internet and telephone services to provide additional identifying information unique to those services so SSA can authenticate their identities before releasing personal information. The respondents are current beneficiaries who are requesting personal information from SSA, and individuals and third parties who are registering for SSA's online business services.

Type of Request: Revision of an OMB-approved information collection.

Modality of completion | Number of respondents | Frequency of response | Average burden per response (minutes) | Estimated total annual burden (hours)
Internet Requestors | 7,929,336 | 1 | 2.5 | 330,389
Telephone Requestors | 8,123,835 | 1 | 4.5 | 609,288
*Screen Splash (on hold) | 1 |  |  | 1
Totals | 16,053,172 |  |  | 939,678
* We are reducing the burden to a one-hour placeholder burden, because we are placing the Screen Splash application on hold.

2. Application for Special Benefits for World War II Veterans—20 CFR 408, Subparts B, C and D—0960-0615. Title VIII of the Act (Special Benefits for Certain World War II Veterans) allows qualified World War II veterans residing outside the United States to receive monthly payments. These regulations establish the requirements individuals need to qualify for and become entitled to Special Veterans Benefits (SVB). SSA uses Form SSA-2000-F6 to elicit the information we need to determine entitlement to SVB. This information collection request comprises the relevant regulations and Form SSA-2006-F6. The respondents are individuals applying for SVB under title VIII of the Act.

Type of Request: Revision of an OMB-approved information collection.

Modality of completion | Number of respondents | Frequency of response | Average burden per response (minutes) | Estimated total annual burden (hours)
§ 408.202(d); § 408.210; § 408.230(a); § 408.305; §§ 408.310-.315 (SSA-2000-F6) | 100 | 1 | 20 | 33
§ 408.420(a), (b) | 71 | 1 | 15 | 18
§§ 408.430 & .432 | 66 | 1 | 30 | 33
§ 408.435(a), (b), (c) | 71 | 1 | 15 | 18
Totals | 308 |  |  | 102

Dated: August 22, 2012.
Faye Lipsky,
Reports Clearance Director, Social Security Administration.

[FR Doc. 2012-20972 Filed 8-24-12; 8:45 am]

BILLING CODE 4191-02-P